DEPARTMENT OF AGRICULTURE

Animal and Plant Health Inspection Service

[Docket No. APHIS-2021-0007]

Concurrence With WOAH Risk Designations for Bovine Spongiform Encephalopathy

AGENCY: Animal and Plant Health Inspection Service, USDA.

ACTION: Notice.

SUMMARY: We are advising the public of our decision to concur with the World Organization for Animal Health's (WOAH) bovine spongiform encephalopathy (BSE) risk designations for Bolivia and the United Kingdom's zone of Jersey. WOAH recognizes the country of Bolivia and the United Kingdom's zone of Jersey as being of negligible risk for BSE. We are taking this action based on our review of information supporting the WOAH's risk designations for these regions.

FOR FURTHER INFORMATION CONTACT: Mr. Javier Vargas, Senior Staff Officer, Regionalization Evaluation Services, Strategy and Policy, Veterinary Services, APHIS, 4700 River Road Unit 38, Riverdale, MD 20737; (301) 851-3316; email: AskRegionalization@usda.gov.

SUPPLEMENTARY INFORMATION: The regulations in 9 CFR part 92 subpart B, “Importation of Animals and Animal Products; Procedures for Requesting BSE Risk Status Classification With Regard To Bovines” (referred to below as the regulations), set forth the process by which the Animal and Plant Health Inspection Service (APHIS) classifies regions for bovine spongiform encephalopathy (BSE) risk. Section 92.5 of the regulations provides that all countries of the world are considered by APHIS to be in one of three BSE risk categories: Negligible risk, controlled risk, or undetermined risk. These risk categories are defined in § 92.1. Any region that is not classified by APHIS as presenting either negligible risk or controlled risk for BSE is considered to present an undetermined risk. The list of those regions classified by APHIS as having either negligible risk or controlled risk can be accessed on the APHIS website at https://www.aphis.usda.gov/aphis/ourfocus/animalhealth/animal-and-animal-product-import-information/animal-health-status-of-regions. The list can also be obtained by writing to APHIS at Regionalization Evaluation Services, 4700 River Road Unit 38, Riverdale, MD 20737.

Under the regulations, APHIS may classify a region for BSE in one of two ways. One way is for regions that have not received a risk classification from the World Organization for Animal Health (WOAH) ¹ to request classification by APHIS. The other way is for APHIS to concur with the classification given to a country or region by WOAH.

¹ The World Organization for Animal Health internationally follows a British English spelling of “organisation” in its name; it was formerly the Office International des Epizooties, or OIE, but on May 28, 2022, the Organization announced that the acronym was changed from OIE to WOAH.

If WOAH has classified a region as either BSE negligible risk or BSE controlled risk, APHIS will seek information to support concurrence with the WOAH classification. This information may be publicly available information, or APHIS may request that regions supply the same information given to WOAH. APHIS will announce in the Federal Register, subject to public comment, its intent to concur with a WOAH classification.

In accordance with this process, we published a notice ² in the Federal Register on June 25, 2021 (86 FR 33635, Docket No. APHIS 2021-0007), in which we announced our intent to concur with the WOAH risk classifications of the following regions:

² To view the notice, go to www.regulations.gov and enter APHIS-2021-0007 in the Search field.

• Country of negligible risk for BSE: Bolivia.

• Zone of negligible risk for BSE: United Kingdom's zone of Jersey.

We solicited comments on the notice for 60 days ending on August 24, 2021. We did not receive any comments by this date.

Therefore, in accordance with the regulations in § 92.5, we are announcing our decision to concur with the WOAH risk classifications for Bolivia and the United Kingdom's zone of Jersey.

Pursuant to the Congressional Review Act (5 U.S.C. 801 et seq.), the Office of Information and Regulatory Affairs designated this action as not a major rule, as defined by 5 U.S.C. 804(2).

Authority: 7 U.S.C. 1622 and 8301-8317; 21 U.S.C. 136 and 136a; 31 U.S.C. 9701; 7 CFR 2.22, 2.80, and 371.4.

Done in Washington, DC, this 13th day of June 2022.
Anthony Shea,
Administrator, Animal and Plant Health Inspection Service.

[FR Doc. 2022-13529 Filed 6-23-22; 8:45 am]

BILLING CODE 3410-34-P